DEPARTMENT OF HOMELAND SECURITY

Coast Guard

33 CFR Part 100

[Docket No. USCG-2014-0331]

RIN 1625-AA08

Eighth Coast Guard District Annual Special Local Regulation; Music City Triathlon; Cumberland River 190.0-192.0; Nashville, TN

AGENCY: Coast Guard, DHS.

ACTION: Notice of enforcement of regulation.

SUMMARY: The Coast Guard will enforce a Special Local Regulation for the “Music City Triathlon” on the Cumberland River mile marker 190.0 to mile marker 192.0 from 6:00 a.m. until 9:30 a.m. on July 27, 2014. This action is necessary for the safeguard of participants and spectators, including all crews, vessels, and persons on navigable waters during the “Music City Triathlon.” During the enforcement period, entry into, transiting or anchoring in the Regulated Area is prohibited to all vessels not registered with the sponsor as participants or official patrol vessels, unless specifically authorized by the Captain of the Port (COTP) Ohio Valley or a designated representative.

DATES: The regulations in 33 CFR 100.801 will be enforced from 6:00 a.m. until 9:30 a.m. on July 27, 2014.

FOR FURTHER INFORMATION CONTACT: If you have questions on this notice of enforcement, call Petty Officer Chad Phillips, Coast Guard Marine Safety Detachment Nashville at 615-736-5421, or Chad.e.phillips@uscg.mil.

SUPPLEMENTARY INFORMATION: The Coast Guard will enforce the Special Local Regulation for the annual “Music City Triathlon” listed in 33 CFR 100.801 Table 1, Sector Ohio Valley, No. 16 on July 27, 2014 from 6:00 a.m. until 9:30 a.m.

Under the provisions of 33 CFR 100.801, entry into the regulated area listed in Table 1, Sector Ohio Valley, No. 16 is prohibited unless authorized by the Captain of the Port or a designated representative. Persons or vessels desiring to enter into or passage through the Special Local Regulation must request permission from the Captain of the Port or a designated representative. If permission is granted, all persons and vessels shall comply with the instructions of the Captain of the Port or designated representative.

This notice is issued under authority of 5 U.S.C. 552(a), and 33 U.S.C. 1233. In addition to this notice in the Federal Register, the Coast Guard will provide the maritime community with advance notification of this enforcement period via Local Notice to Mariners and Marine Information Broadcasts.

If the Captain of the Port Ohio Valley or Patrol Commander determines that the Special Local Regulation need not be enforced for the full duration stated in this notice of enforcement, he or she may use a Broadcast Notice to Mariners to grant general permission to enter the regulated area.

Dated: June 6, 2014.
R. V. Timme,
Captain, U.S. Coast Guard, Captain of the Port Ohio Valley.

[FR Doc. 2014-16157 Filed 7-10-14; 8:45 am]

BILLING CODE 9110-04-P